GENERAL SERVICES ADMINISTRATION

[OMB Control No. 3090-0093]

Submission for OMB Review; Comment Request Entitled Transportation Discrepancy Report, Standard Form 361

AGENCY: General Services Administration (GSA).

ACTION: Notice of a request for an extension to an existing OMB clearance.

SUMMARY: Under the provisions of the Paperwork Reduction Act of 1995 (44 U.S.C. chapter 35), the General Services Administration (GSA) has submitted to the Office of Management and Budget (OMB) a request to review and approve an extension of a previously approved information collection requirement concerning Transportation Discrepancy Report, Standard Form 361.

DATES: Comments may be submitted on or before August 28, 2001.

FOR FURTHER INFORMATION CONTACT: Richard J. Johnson, Jr., National Customer Service Center, Federal Supply Service, GSA (816) 926-2932.

ADDRESSES: Comments regarding this burden estimate or any other aspect of this collection of information, including suggestions for reducing this burden, should be submitted to: Edward Springer, GSA Desk Officer, OMB, Room 10236, NEOB, Washington, DC 20503, and a copy to Stephanie Morris, General Services Administration (MVP), 1800 F Street, NW., Room 4035, Washington, DC 20405.

SUPPLEMENTARY INFORMATION:

A. Purpose

The General Services Administration is requesting the Office of Management and Budget (OMB) to review and approve information collection, 3090-0093, concerning Transportation Discrepancy Report, Standard Form 361. This form is prepared by Government shippers or receivers to document loss, damage, or other discrepancy resulting from the movement of freight by commercial transportation companies.

B. Annual Reporting Burden

Respondents: 1,434.

Annual Responses: 1,434.

Average Hours Per Response: 1.

Burden Hours: 1.434.

Obtaining Copies of Proposals

A copy of this proposal may be obtained from the General Services Administration, Acquisition Policy Division (MVP), 1800 F Street, NW., Room 4035, Washington, DC 20405, or by telephoning (202) 501-4744, or by faxing your request to (202) 501-4067. Please cite OMB Control No. 3090-0093 Transportation Discrepancy Report, Standard Form 361, in all correspondence.

David A. Drabkin,
Deputy Associate Administrator, Office of Acquisition Policy.

[FR Doc. 01-16331 Filed 6-28-01; 8:45 am]

BILLING CODE 6820-61-U